DEPARTMENT OF DEFENSE

DEPARTMENT OF ENERGY

ENVIRONMENTAL PROTECTION AGENCY

NUCLEAR REGULATORY COMMISSION

[Docket No. EPA-HQ-OAR-2006-0957]

Multi-Agency Radiation Survey and Assessment of Materials and Equipment Manual

Correction

In notice document E9-975 beginning on page 2998 in the issue of Friday, January 16, 2008, the docket number should read as set forth above.

[FR Doc. Z9-975 Filed 1-21-09; 8:45 am]

BILLING CODE 1505-01-D